DEPARTMENT OF HEALTH AND HUMAN SERVICES

Administration for Children and Families

Proposed Information Collection Activity; Services for Unaccompanied Children With Disabilities (New Collection)

AGENCY: Office of Refugee Resettlement, Administration for Children and Families, U.S. Department of Health and Human Services.

ACTION: Request for public comments.

SUMMARY: The Office of Refugee Resettlement (ORR), Administration for Children and Families (ACF), U.S. Department of Health and Human Services is inviting public comment on the proposed collection. The request consists of one form that will allow the Unaccompanied Children (UC) Bureau to provide services to unaccompanied children identified as having a disability.

DATES: Comments due September 23, 2024. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The ORR UC Bureau is proposing a new form, the Individualized Section 504 Service Plan (Form S-25). The proposed information collection is necessary to allow the ORR UC Bureau to comply with a court order and improve service delivery for unaccompanied children identified as having a disability. On June 29, 2018, Plaintiffs filed their federal class action lawsuit in the Central District of California, western division, captioned Lucas R. et al v. Becerra et al (Case No. 2:18-CV-05741 DMG PLA), asserting claims under the Flores consent decree, the Trafficking Victims Protection Reauthorization Act, the Due Process clause, and the First Amendment. Plaintiffs allege violation of unaccompanied children rights in decisions regarding family reunification, placement in restrictive facilities, services for children with disabilities, administration of psychotropic medication, and access to legal assistance. On May 3, 2024, the Court granted final approval for the settlement agreements of the Plaintiffs' claims for disabilities, psychotropic medication, and legal assistance. As part of the settlement agreement for the disabilities claim, ORR is required to develop and implement individualized Section 504 service plans for any child identified as having a disability. The disabilities settlement agreement must be fully implemented by May 3, 2025.

Respondents: Care provider grantees and contractors

Annual Burden Estimates:

Form | Annual number of respondents | Number of responses per respondent | Average burden hours per response | Total annual burden hours
Individual Section 504 Service Plan (Form S-25) | 300 | 7 | 3 | 6,300

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 6 U.S.C. 279; 8 U.S.C. 1232; 45 CFR 410; Flores v. Reno Settlement Agreement, No. CV85-4544-RJK (C.D. Cal. 1996); Lucas R. et al v. Becerra et al (Case No. 2:18-CV-05741 DMG PLA) Disabilities Settlement Agreement

Mary C. Jones,
ACF/OPRE Certifying Officer.

[FR Doc. 2024-16347 Filed 7-24-24; 8:45 am]

BILLING CODE 4184-45-P